FEDERAL COMMUNICATIONS COMMISSION

47 CFR Part 36

[CC Docket No. 80-286; FCC 18-182]

Jurisdictional Separations and Referral to the Federal-State Joint Board

AGENCY: Federal Communications Commission.

ACTION: Final rule; announcement of effective date.

SUMMARY: In this document, the Federal Communications Commission (Commission) announces that the Office of Management and Budget (OMB) has approved, via a non-substantive change request, an information collection associated with the Commission's Report and Order, FCC 18-182, published February 15, 2019. This document is consistent with that Report and Order, which stated that the Commission would publish a document in the Federal Register announcing the effective date of the requirements.

DATES: The amendments to 47 CFR 36.3(b), published at 84 FR 4351 (February 15, 2019), are effective March 1, 2019.

FOR FURTHER INFORMATION CONTACT: Marvin Sacks, Pricing Policy Division, Wireline Competition Bureau, at (202) 418-2017 or via email at marvin.sacks@fcc.gov.

SUPPLEMENTARY INFORMATION: This document announces that, on February 22, 2019, OMB approved, via a non-substantive change request, an information collection requirement associated with amendments to 47 CFR 36.3(b) adopted in the Commission's Report and Order, FCC 18-182, published at 84 FR 4351. The OMB Control Number is 3060-0400 (Part 61, Tariff Review Plan (TRP)). The Commission publishes this document as an announcement of the effective date of the amendments to 47 CFR 36.3(b). If you have any comments on the burden estimates listed below, or how the Commission can improve the collections and reduce any burdens caused thereby, please contact Nicole Ongele, Federal Communications Commission, Room 1-A620, 445 12th Street, SW, Washington, DC 20554. Please include the OMB Control Number, 3060-0400, in your correspondence. The Commission will also accept your comments via email at PRA@fcc.gov.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the FCC is notifying the public that it received OMB approval on February 22, 2019, for the non-substantive change to information requirements contained in the Commission's rules at 47 CFR 36.3(b).

Under 5 CFR part 1320, an agency may not conduct or sponsor a collection of information unless it displays a current, valid OMB Control Number. No person shall be subject to any penalty for failing to comply with a collection of information subject to the Paperwork Reduction Act that does not display a current, valid OMB Control Number. The OMB Control Number is 3060-0400. The foregoing notice is required by the Paperwork Reduction Act of 1995, Public Law 104-13, October 1, 1995, and 44 U.S.C. 3507.

The total annual reporting burdens and costs for the respondents are as follows:

OMB Control Number: 3060-0400.

OMB Approval Date: October 13, 2017.

OMB Expiration Date: October 31, 2020.

Title: Part 61, Tariff Review Plan (TRP).

Form Number: N/A.

Respondents: Business or other for-profit entities.

Number of Respondents and Responses: 2,749 respondents; 4,165 responses.

Estimated Time per Response: 0.50-53 hours.

Frequency of Response: On occasion, annual, biennial, and one-time reporting requirements.

Obligation to Respond: Required to obtain or retain benefits. Statutory authority for this information collection is contained in 47 U.S.C. 151-155. 201-203, 208, 251-271, 403, 502, and 503 of the Communications Act of 1934, as amended.

Total Annual Burden: 60,878 hours.

Total Annual Cost: No cost.

Privacy Act Impact Assessment: No impact(s).

Nature and Extent of Confidentiality: Respondents are not being asked to submit confidential information to the Commission. If the Commission requests respondents to submit information which respondents believe is confidential, respondents may request confidential treatment of such information under 47 CFR 0.459 of the Commission's Rules.

Needs and Uses: In the Report and Order, FCC 18-182, the Commission amended its part 36 jurisdictional separations rules by providing rate-of-return carriers that elected to freeze their separation category relationships in 2001 a one-time opportunity to unfreeze and update those relationships so that they can categorize their costs based on current circumstances.

Title 47 CFR 36.3(b), as amended in this Order, requires compliance with information requirements that have already been accounted for and approved under OMB Control Number 3060-0400, Part 61, Tariffs (Other than Tariff Review Plan) (TRP). The burden and costs of this collection have not changed since they were last approved by OMB.

Federal Communications Commission.
Katura Jackson,
Federal Register Liaison Officer, Office of the Secretary.

[FR Doc. 2019-03676 Filed 2-28-19; 8:45 am]

BILLING CODE 6712-01-P